DEPARTMENT OF AGRICULTURE

Food and Nutrition Service

7 CFR Part 249

[FNS-2006-0046]

RIN 0584-AD35

Senior Farmers' Market Nutrition Program Regulations; Announcement of Approval and Compliance Date, With Technical Amendment

AGENCY: Food and Nutrition Service, USDA.

ACTION: Final rule; announcement of approval and compliance date, with technical amendment.

SUMMARY: The provisions of the final rule entitled Senior Farmers? Market Nutrition Program Regulations published on December 12, 2006, contained information collection requirements that required approval by the Office of Management and Budget (OMB). This document announces the approval date of the provisions contained in the final rule and amends the final rule to include the OMB Control Number assigned to the information collection burden.

DATES: Effective date: The technical amendment to § 249.27 will become effective on March 23, 2007.

Approval date: The information collection requirements of §§ 249.1 through 249.26 of the rule published in the Federal Register on December 12, 2006 (71 FR 74618), were approved by OMB on January 5, 2007.

Compliance date: Compliance with the provisions of the SFMNP Final Rule, including the information collection requirements, is required as of January 11, 2007.

FOR FURTHER INFORMATION CONTACT: Debra Whitford or Donna Hines, Supplemental Food Programs Division, Food and Nutrition Service, USDA, 3101 Park Center Drive, Room 528, Alexandria, Virginia 22302, (703) 305-2746, OR Debbie.Whitford@fns.usda.gov, or Donna.Hines@fns.usda.gov.

List of Subjects in 7 CFR Part 249

Aging, Community supported agriculture programs, Elderly, Farmers, Farmers' markets, Food assistance programs, Food donations, Grant programs, Nutrition education, Public assistance programs, Seniors, Social programs.

Accordingly, 7 CFR part 249 is amended to read as follows:

PART 249—SENIOR FARMERS' MARKET NUTRITION PROGRAM

1. The authority citation for 7 CFR part 249 continues to read as follows:

Authority: 7 U.S.C. 3007.

2. Section 249.27 is added to read as follows:

§ 249.27 OMB Control Number.

The information collection requirements for part 249 have been reviewed and approved by the Office of Management and Budget (OMB). The OMB approval number is 0584-0541.

Dated: March 16, 2007.
George Braley,
Acting Administrator, Food and Nutrition Service.

[FR Doc. E7-5330 Filed 3-22-07; 8:45 am]

BILLING CODE 3410-30-P